DEPARTMENT OF COMMERCE

National Oceanic and Atmospheric Administration

[RTID 0648-XE220]

Takes of Marine Mammals Incidental to Specified Activities; Taking Marine Mammals Incidental to Construction of a Liquefied Natural Gas Terminal, Texas

AGENCY: National Marine Fisheries Service (NMFS), National Oceanic and Atmospheric Administration (NOAA), Commerce.

ACTION: Notice; issuance of incidental harassment authorization.

SUMMARY: NMFS has received a request from Rio Grande LNG, LLC, (Rio Grande) for the reissuance of a previously issued incidental harassment authorization (IHA) with the only change being effective dates. The initial IHA authorized take of three species of marine mammals incidental to activities associated with the construction of a Liquefied Natural Gas (LNG) terminal in the Brownsville Ship Channel (BSC), Cameron County, Texas. The project has been delayed and none of the work covered in the initial IHA has been conducted. The initial IHA was effective from July 1, 2020, through June 31, 2021. Rio Grande has requested reissuance with new effective dates of January 15, 2025, through January 14, 2026. The scope of the activities and anticipated effects remain the same, authorized take numbers are not changed, and the required mitigation, monitoring, and reporting remains the same as included in the initial IHA. NMFS is, therefore, issuing an identical IHA to cover the incidental take analyzed and authorized in the initial IHA.

DATES: This authorization is effective from January 15, 2025, through January 14, 2026.

ADDRESSES: An electronic copy of the final 2020 IHA previously issued to Rio Grande, Rio Grande's application, and the Federal Register notices proposing and issuing the initial IHA may be obtained by visiting https://www.fisheries.noaa.gov/national/marine-mammal-protection/incidental-take-authorizations-other-energy-activities-renewable. In case of problems accessing these documents, please call the contact listed below (see FOR FURTHER INFORMATION CONTACT).

FOR FURTHER INFORMATION CONTACT: Rob Pauline, Office of Protected Resources, NMFS, (301) 427-8401.

SUPPLEMENTARY INFORMATION:

Background

Sections 101(a)(5)(A) and (D) of the Marine Mammal Protection Act (MMPA; 16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as any act of pursuit, torment, or annoyance which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On June 29, 2020, NMFS published final notice of our issuance of an IHA authorizing take of marine mammals incidental to construction of an LNG terminal in the BSC, Texas (85 FR 40250, July 6, 2020). The effective dates of that IHA were July 1, 2020, through June 31, 2021. On July 12, 2024, Rio Grande informed NMFS that the project had been delayed. None of the work identified in the initial IHA (e.g., pile driving) has occurred. Rio Grande submitted a request for NMFS to reissue an identical IHA that would be effective from January 15, 2025, through January 14, 2026 in order to conduct the construction work that was analyzed and authorized through the previously issued IHA.

Summary of Specified Activity and Anticipated Impacts

The planned activities (including mitigation, monitoring, and reporting), authorized incidental take, and anticipated impacts on the affected stocks are the same as those analyzed and authorized through the previously issued IHA.

Rio Grande plans to construct a natural gas liquefaction facility and LNG export terminal in Cameron County, Texas, along the north embankment of the BSC. The purpose of the project is to develop, own, operate, and maintain a natural gas pipeline system to access natural gas from the Agua Dulce Hub and an LNG export facility in south Texas to export 24.5 million metric tons (27 million U.S. tons) per annum of natural gas that provides an additional source of firm, long-term, and competitively priced LNG to the global market. The location, timing, and nature of the activities, including the types of equipment planned for use, are identical to those described in the initial IHA. The only exception is that Rio Grande is no longer installing two 48-inch-diameter steel piles in water, but instead will install them in dry land. The mitigation and monitoring are also as prescribed in the initial IHA.

Species that are expected to be taken by the planned activity include bottlenose dolphin (Tursiops truncatus), Atlantic spotted dolphin (Stenella frontalis), and rough-toothed dolphin (Steno bredanensis). A description of the methods and inputs used to estimate take anticipated to occur and, ultimately, the take that was authorized is found in the previous documents referenced above. The data inputs and methods of estimating take are identical to those used in the initial IHA. NMFS has reviewed recent Stock Assessment Reports, information on relevant Unusual Mortality Events, and recent scientific literature. While estimated populations of the Atlantic spotted dolphin, bottlenose dolphin (Western coastal and Northern Gulf of Mexico stocks), and rough-toothed dolphin (Northern Gulf of Mexico stock) have been updated since the issuance of the initial IHA, NMFS determined that no new information affects our original analysis of impacts or take estimate under the initial IHA.

We refer to the documents related to the previously issued IHA, which include the Federal Register notice of the issuance of the initial 2020 IHA for Rio Grande's construction work (85 FR 40250, July 6, 2020), Rio Grande's application, the Federal Register notice of the proposed IHA (85 FR 27365, May 8, 2020), and all associated references and documents.

Determinations

Rio Grande will conduct activities as analyzed in the initial 2020 IHA. As described above, the number of authorized takes of the same species and stocks of marine mammals are identical to the numbers that were found to meet the negligible impact small numbers standards and authorized under the initial IHA and no new information has emerged that would change those findings. The reissued 2025 IHA includes identical required mitigation, monitoring, and reporting measures as the initial IHA, and there is no new information suggesting that our analysis or findings should change.

Based on the information contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; and (4) Rio Grande's activities will not have an unmitigable adverse impact on taking for subsistence purposes.

National Environmental Policy Act

To comply with the National Environmental Policy Act of 1969 (NEPA; 42 U.S.C. 4321 et seq.) and NOAA Administrative Order 216-6A, NMFS must review our proposed action with respect to environmental consequences on the human environment.

Accordingly, NMFS determined that the issuance of the initial IHA qualified to be categorically excluded from further NEPA review. NMFS has determined that the application of this categorical exclusion remains appropriate for this reissued IHA.

Endangered Species Act (ESA)

Incidental take of ESA-listed species from the specified activities is not expected or authorized. Therefore, NMFS determined that formal consultation under section 7 of the ESA is not required for this action.

Authorization

NMFS has issued an IHA to Rio Grande for in-water construction activities associated with the specified activity from January 15, 2025, through January 14, 2026. All previously described mitigation, monitoring, and reporting requirements from the initial 2020 IHA are incorporated.

Dated: August 21, 2024.
Kimberly Damon-Randall,
Director, Office of Protected Resources, National Marine Fisheries Service.

[FR Doc. 2024-19186 Filed 8-26-24; 8:45 am]

BILLING CODE 3510-22-P